DEPARTMENT OF TRANSPORTATION

Federal Highway Administration

Environmental Impact Statement: Yellowstone County, Montana

AGENCY: Federal Highway Administration (FHWA), DOT.

ACTION: Notice of intent.

SUMMARY: The FHWA is issuing this notice to advise the public that an environmental impact statement will be prepared for a proposed highway project in Yellowstone County, Montana.

FOR FURTHER INFORMATION CONTACT: Dale Paulson, Program Development Engineer, Federal Highway Administration, 2880 Skyway Drive, Helena, Montana 59602, Telephone: (406) 449-5302, ext. 233; or Fred Bente, Consultant Design, Montana Department of Transportation, 2701 Prospect Avenue, P.O. Box 201001, Helena, Montana 59620-1001, Telephone: (406) 444-7634.

SUPPLEMENTARY INFORMATION: The FHWA, in cooperation with the Montana Department of Transportation will prepare an environmental impact statement (EIS) on a proposal to construct a bypass route north of Billings in Yellowstone County, Montana. The proposed bypass route would be located north of the Billings Logan International Airport between Interstate 94 (I-94) and Montana Highway 3 (MT 3), a distance of approximately 24 km (15 miles), and would include connections to I-94, Highway 312, US 87, and MT 3.

Improvements to the corridor are considered necessary to improve the Camino-Real International Trade Corridor and alleviate congestion on a number of principal arterial streets in northeast Billings. The bypass could also help to improve air quality in the Billings urban area, which is currently designated as a non-attainment area for carbon monoxide (CO), by reducing stopping and idling times for traffic.

Alternatives under consideration include (1) taking no action; (2) constructing a new bypass route.

Letters describing the proposed action and soliciting comments will be sent to appropriate Federal, State and local agencies, and to private organizations and citizens who have previously expressed or are known to have an interest in this proposal. An extensive public involvement process will be conducted to solicit views and comments from the appropriate agencies and interested private organizations and citizens. The process will include a Billings Bypass Advisory Committee, public meetings & workshops, a public hearing, and presentations & meetings with community interest groups. Public notice will be given of the time and place of the meetings and hearing. The draft EIS will be available for public and agency review and comment prior to the public hearing. No formal scoping meeting date has been set at this time.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Authority: 23 U.S.C. 315; 49 CFR 1.48.

Issued on: August 5, 2003.
Dale W. Paulson,
Program Development Engineer, Federal Highway Administration, Montana Division, Helena, Montana.

[FR Doc. 03-20540 Filed 8-12-03; 8:45 am]

BILLING CODE 4910-22-M